DEPARTMENT OF DEFENSE

Office of the Secretary

32 CFR Part 270

[Docket ID: DOD-2018-OS-0050]

RIN 0790-AK38

Compensation of Certain Former Operatives Incarcerated by the Democratic Republic of Vietnam

AGENCY: Under Secretary of Defense for Personnel and Readiness, DoD.

ACTION: Final rule.

SUMMARY: This final rule removes the Department of Defense (DoD) regulation concerning compensation of certain former operatives incarcerated by the Democratic Republic of Vietnam. The content of this part is obsolete as the claim period expired and the Vietnam Commandos Compensation Commission was disbanded. Therefore, this part is unnecessary, and can be removed.

DATES: This rule is effective on January 31, 2019.

FOR FURTHER INFORMATION CONTACT: Don Syendsen, 703-695-9371.

SUPPLEMENTARY INFORMATION: This part was originally published 15 May 1997 under the National Defense Authorization Act of FY 1997 and established the Vietnam Commandos Compensation Commission within the Office of the Secretary of Defense. The rule authorized a claims process for compensation of Vietnamese operatives who served in certain U.S.-led operations, were captured, and incarcerated in the Democratic Republic of Vietnam. The claim period expired 15 May 2000; payments were completed by July 2001; and, the commission was disbanded.

This rule is not significant under Executive Order (E.O.) 12866, “Regulatory Planning and Review,” therefore, the requirements of E.O. 13771, “Reducing Regulation and Controlling Regulatory Costs,” do not apply.

List of Subjects in 32 CFR Part 270

Claims, Military personnel, Prisoners of war, Vietnam.

PART 270—[REMOVED]

Accordingly, by the authority of 5 U.S.C. 301, 32 CFR part 270, is removed.

Dated: January 28, 2019.
Aaron T. Siegel,
Alternate OSD Federal Register Liaison Officer, Department of Defense.

[FR Doc. 2019-00428 Filed 1-30-19; 8:45 am]

BILLING CODE 5001-06-P